SMALL BUSINESS ADMINISTRATION

[(Declaration of Disaster #3341; Amendment #2)]

State of Minnesota

In accordance with a notice received from the Federal Emergency Management Agency, dated June 8, 2001, the above-numbered Declaration is hereby amended to include Anoka, Beltrami, Brown, Carver, Chisago, Clearwater, Douglas, Grant, Hennepin, Kittson, Koochiching, Nicollet, Red Lake and Scott Counties and Red Lake Indian Reservation and White Earth Indian Reservation in the State of Minnesota as disaster areas caused by flooding and severe winter storms, flooding and tornadoes occurring between March 23, 2001 and May 29, 2001.

In addition, applications for economic injury loans from small businesses located in Blue Earth, Hubbard, Lake of the Woods, Roseau and Watonwan Counties in the State of Minnesota may be filed until the specified date at the previously designated location. Any counties contiguous to the above named primary counties and not listed here have been previously declared.

All other information remains the same, i.e., the deadline for filing applications for physical damage is July 15, 2001 and for economic injury the deadline is February 15, 2002.

(Catalog of Federal Domestic Assistance Program Nos. 59002 and 59008)
Dated: June 11, 2001.
James E. Rivera,
Acting Associate Administrator for Disaster Assistance.

[FR Doc. 01-15120 Filed 6-14-01; 8:45 am]

BILLING CODE 8025-01-P